DEPARTMENT OF STATE

Office of the Secretary

[Public Notice 3844]

Extension of the Restriction on the Use of United States Passports for Travel to, in, or Through Libya

On December 11, 1981, pursuant to the authority of 22 U.S.C. 211a and Executive Order 11295 (31 FR 10603), and in accordance with 22 CFR 51.73 (a) (3), all United States passports were declared invalid for travel to, in, or through Libya unless specifically validated for such travel. This restriction has been renewed yearly because of the unsettled relations between the United States and the Government of Libya and the possibility of hostile acts against Americans in Libya. The American Embassy in Tripoli remains closed, thus preventing the United States from providing routine diplomatic protection or consular assistance to Americans who may travel to Libya.

In light of these events and circumstances, I have determined that Libya continues to be an area “* * * where there is imminent danger to the public health or physical safety of United States travelers” within the meaning of 22 U.S.C. 211a and 22 CFR 51.73 (a) (3).

Accordingly, all United States passports shall remain invalid for travel to, in, or through Libya unless specifically validated for such travel under the authority of the Secretary of State.

The Public Notice shall be effective upon publication in the Federal Register and shall expire at midnight November 24, 2002, unless extended or sooner revoked by Public Notice.

Dated: December 13, 2001.
Colin L. Powell,
Secretary of State, Department of State.

[FR Doc. 01-29156 Filed 11-20-01; 8:45 am]

BILLING CODE 4710-10-P